DEFENSE NUCLEAR FACILITIES SAFETY BOARD

Request for Comments on the Draft Fiscal Year 2018 Through Fiscal Year 2022 Strategic Plan

AGENCY: Defense Nuclear Facilities Safety Board (DNFSB).

ACTION: Notice and request for comment.

SUMMARY: The DNFSB is requesting public comments on its draft Fiscal Year 2018 through Fiscal Year 2022 Strategic Plan (Draft Strategic Plan).

DATES: The public may comment on this plan from December 4, 2018 to December 17, 2018. All comments must be received or postmarked by December 16, 2018.

ADDRESSES: You may send written comments by any of the following methods:

Email: strategicplan@dnfsb.gov

Mail: DNFSB, Re: Draft Strategic Plan, 625 Indiana Avenue NW., Suite 700, Washington, DC 20004.

Instructions: All comments must reference the specific section of the Draft Strategic Plan to which the comment applies. Please be as specific as possible regarding comments to the Draft Strategic Plan, and present the reasoning for the proposed change.

FOR FURTHER INFORMATION CONTACT: Katherine Herrera, Deputy General Manager, Defense Nuclear Facilities Safety Board, 625 Indiana Avenue NW., Suite 700, Washington, DC 20004-2901, (202) 369-7000.

SUPPLEMENTARY INFORMATION: Pursuant to Section 230.16 of the Office of Management and Budget (OMB) Circular A-11, the DNFSB is seeking public comment on its Draft Strategic Plan. The Draft Strategic Plan will be posted on the DNFSB Web site at https://www.dnfsb.gov from December 4, 2018 to December 17, 2018.

Dated: November 27, 2017.
Sean Sullivan,
Chairman.

[FR Doc. 2017-26387 Filed 12-6-17; 8:45 am]

BILLING CODE 3670-01-P